DEPARTMENT OF THE INTERIOR

Bureau of Indian Affairs

[178A2100DD/AAKC001030/A0A501010.999900 253G]

Indian Gaming; Approval of a Tribal-State Class III Gaming Compact in the State of South Dakota

AGENCY: Bureau of Indian Affairs, Interior.

ACTION: Notice.

SUMMARY: The Crow Creek Sioux Tribe of the Crow Creek Reservation and the State of South Dakota entered into a compact superseding an existing Tribal-State compact governing Class III gaming; this notice announces approval of the Proposed Gaming Compact Between the Crow Creek Sioux Tribe of the Crow Creek Reservation and the State of South Dakota governing Class III gaming.

DATES: This notice is applicable as of August 2, 2017.

FOR FURTHER INFORMATION CONTACT: Ms. Paula L. Hart, Director, Office of Indian Gaming, Office of the Assistant Secretary—Indian Affairs, Washington, DC 20240, (202) 219-4066.

SUPPLEMENTARY INFORMATION: Section 11 of the Indian Gaming Regulatory Act (IGRA) requires the Secretary of the Interior (Secretary) to publish in the Federal Register notice of approved Tribal-State compacts that are for the purpose of engaging in Class III gaming activities on Indian lands. See Public Law 100-497, 25 U.S.C. 2701 et seq. All Tribal-State Class III compacts, including amendments, are subject to review and approval by the Secretary under 25 CFR 293.4. The Compact increases the number of permissible slot machines from 250 to 500, permits the Tribe to operate Class III gaming at a second location, and increases wager limits. The initial duration of the Compact is 10 years with automatic renewals every 10 years thereafter unless the agreement is terminated by the Tribe and the State. The Compact is approved. See 25 U.S.C. 2710(d)(8)(A).

Dated: June 26, 2017.
Michael S. Black,
Acting Assistant Secretary—Indian Affairs.

[FR Doc. 2017-16215 Filed 8-1-17; 8:45 am]

BILLING CODE 4337-15-P